DEPARTMENT OF ENERGY

Federal Energy Regulatory Commission

[Project No. 2161-006 Wisconsin and 2192-008 and 2110-003 Wisconsin]

Rhinelander Paper Company and Consolidated Water Power; Notice of Availability of Final Multiple Project Environmental Assessment

March 20, 2003.

In accordance with the National Environmental Policy Act of 1969 and the Federal Energy Regulatory Commission's (Commission) regulations, 18 CFR part 380 (Order No. 486, 52 FR 47879), the Office of Energy Projects has reviewed the applications for license for the Rhinelander, Stevens Point, and Biron projects, located on the Wisconsin River, in Oneida, Portage, and Wood Counties, Wisconsin, and has prepared a Final Multiple Project Environmental Assessment (FEA) for these projects. There are no federal lands occupied by the project works or located within the project boundaries.

The FEA contains the staff's analysis of the potential environmental effects of the project and concludes that licensing the projects, with appropriate environmental measures, would not constitute a major federal action that would significantly affect the quality of the human environment.

A copy of the FEA is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659.

FOR FURTHER INFORMATION CONTACT: Michael Spencer at 202-502-6093.

Magalie R. Salas,
Secretary.

[FR Doc. 03-7325 Filed 3-26-03; 8:45 am]

BILLING CODE 6717-01-P